DEPARTMENT OF ENERGY

Fusion Energy Sciences Advisory Committee; Meeting

AGENCY: Office of Science, Department of Energy.

ACTION: Notice of open meeting.

SUMMARY: This notice announces a meeting of the Fusion Energy Sciences Advisory Committee (FESAC). The Federal Advisory Committee Act requires that public notice of these meetings be announced in the Federal Register.

DATES:

Monday, August 30, 2021; 11:00 a.m. to 5:30 p.m. EDT

Tuesday, August 31, 2021; 11:00 a.m. to 5:30 p.m. EDT

ADDRESSES: This meeting will be held digitally via Zoom. Instructions for Zoom, as well as any updates to meeting times or meeting agenda, can be found on the FESAC meeting website at: https://science.osti.gov/fes/fesac/Meetings.

FOR FURTHER INFORMATION CONTACT: Dr. Samuel J. Barish, Designated Federal Officer, Office of Fusion Energy Sciences (FES); U.S. Department of Energy; Office of Science; 1000 Independence Avenue SW; Washington, DC 20585; Telephone: (301) 903-2917, Email address: sam.barish@science.doe.gov.

SUPPLEMENTARY INFORMATION: Purpose of the Board: The purpose of the Board is to provide advice on a continuing basis to the Director, Office of Science of the Department of Energy, on the many complex scientific and technical issues that arise in the development and implementation of the fusion energy sciences program.

Tentative Agenda:

• News from the Office of Science

• FES Perspective

• Update on the FESAC Long-Range Planning Report

• Status of US ITER

• Innovation Network for Fusion Energy (INFUSE)

• Taming Plasmas and Controlling Laser Beams for Grand Challenge Applications

• Public Reusable Research (PuRe) Data Resources

• Public Comment

• Adjourn

Public Participation: The meeting is open to the public. If you would like to file a written statement with the Committee, you may do so either before or after the meeting. If you would like to make an oral statement regarding any of the items on the agenda, you should contact Dr. Barish at sam.barish@science.doe.gov (Email). Reasonable provision will be made to include the scheduled oral statements during the Public Comment time on the agenda. The Chairperson of the Committee will conduct the meeting to facilitate the orderly conduct of business. Public comment will follow the 10-minute rule.

Minutes: The minutes of the meeting will be available for on the Fusion Energy Sciences Advisory Committee website: http://science.energy.gov/fes/fesac/.

Signed in Washington, DC, on August 4, 2021.
LaTanya Butler,
Deputy Committee Management Officer.

[FR Doc. 2021-16933 Filed 8-6-21; 8:45 am]

BILLING CODE 6450-01-P